DEPARTMENT OF EDUCATION

[Docket No. ED-2014-ICCD-0088]

Agency Information Collection Activities; Submission to the Office of Management and Budget for Review and Approval; Comment Request; Master Generic Plan for Customer Surveys and Focus Groups

AGENCY: Office of Management (OM), Department of Education (ED).

ACTION: Notice.

SUMMARY: In accordance with the Paperwork Reduction Act of 1995 (44 U.S.C. chapter 3501 et seq.), ED is proposing an extension of an existing information collection. Department of Education as part of its continuing effort to reduce paperwork and respondent burden, invites the general public to take this opportunity to comment on the “Master Generic Plan for Customer Surveys and Focus Groups” for approval under the Paperwork Reduction Act (PRA) (44 U.S.C. 3501 et. seq.). This collection was developed as part of a Federal Government-wide effort to streamline the process for seeking feedback from the public on service delivery. This notice announces our intent to submit this collection to OMB for approval and solicits comments on specific aspects for the proposed information collection.

A copy of the supporting statement is available at www.regulations.gov (see Docket ID ED-2014-ICCD-0088).

DATES: Interested persons are invited to submit comments on or before September 26, 2014.

ADDRESSES: Comments submitted in response to this notice should be submitted electronically through the Federal eRulemaking Portal at http://www.regulations.gov by selecting Docket ID number ED-2014-ICCD-0088 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Stephanie Valentine, 202-401-0526.

SUPPLEMENTARY INFORMATION: Title: Master Generic Plan for Customer Surveys and Focus Groups.

OMB Control Number: 1800-0011.

Type of Review: An extension of an existing information collection.

Respondents/Affected Public: Individuals or households.

Total Estimated Number of Annual Responses: 451,322.

Total Estimated Number of Annual Burden Hours: 115,344.

Projected average estimates for the next three years:

Average Expected Annual Number of Activities: 70.

Average Number of Respondents per Activity: 500.

Annual Responses: 451,322.

Frequency of Response: Once per request.

Average Minutes per Response: .08.

Burden Hours: 115,344.

Abstract: Surveys to be considered under this generic will only include those surveys that improve customer service or collect feedback about a service provided to individuals or entities directly served by ED. The results of these customer surveys will help ED managers plan and implement program improvements and other customer satisfaction initiatives. Focus groups that will be considered under the generic clearance will assess customer satisfaction with a direct service, or will be designed to inform a customer satisfaction survey ED is considering. Surveys that have the potential to influence policy will not be considered under this generic clearance.

Stephanie Valentine,
Acting Director, Information Collection Clearance Division, Privacy, Information and Records Management Services, Office of Management.

[FR Doc. 2014-20405 Filed 8-26-14; 8:45 am]

BILLING CODE 4000-01-P